DEPARTMENT OF TRANSPORTATION

Surface Transportation Board

[STB Finance Docket No. 34184]

The Burlington Northern and Santa Fe Railway Company-Trackage Rights Exemption-Southern Gulf Railway Company

Southern Gulf Railway Company (SGR), pursuant to a written trackage rights agreement entered into between SGR and The Burlington Northern and Santa Fe Railway Company (BNSF), has agreed to grant limited, nonexclusive overhead trackage rights to BNSF over SGR's rail line between SGR milepost 0.0 and SGR milepost 4.28, a distance of approximately 4.28 miles, in the vicinity of Sulphur, LA, for the purpose of serving the Roy S. Nelson Generating Station (Plant) of Entergy Gulf States, Inc. BNSF will operate its own trains with its own crews over SGR's line under the trackage rights agreement.¹

¹ Pursuant to 49 CFR 1180.4(g), a railroad must file a verified notice with the Board at least 7 days before the trackage rights are to be consummated. In its verified notice, BNSF indicates that it has been providing service to the Plant pursuant to the trackage rights agreement dated February 17, 2000, prior to the filing of its verified notice of exemption. BNSF, states that, due to an oversight, it did not file its exemption with the Board until March 20, 2002.

Operations under the exemption were scheduled to begin on March 27, 2002, the effective date of the exemption (7 days after the notice was filed).

As a condition to this exemption, any employees affected by the trackage rights will be protected by the conditions imposed in Norfolk and Western Ry. Co.-Trackage Rights-BN, 354 I.C.C. 605 (1978), as modified in Mendocino Coast Ry., Inc.-Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34184, must be filed with the Surface Transportation Board, Office of the Secretary, Case Control Unit, 1925 K Street, NW., Washington, DC 20423-0001. In addition, a copy of each pleading must be served on Michael E. Roper, 2500 Lou Menk Drive, P.O. Box 961039, Fort Worth, TX 76161-0039.

Board decisions and notices are available on our website at WWW.STB.DOT.GOV.”

Decided: April 1, 2002.
By the Board, David M. Konschnik, Director, Office of Proceedings.
Vernon A. Williams,
Secretary.

[FR Doc. 02-8305 Filed 4-8-02; 8:45 am]

BILLING CODE 4915-00-P